DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the name of a person who has been removed from the list of Specially Designated Nationals and Blocked Persons (SDN List). Their property and interests in property are no longer blocked, and U.S. persons are no longer generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Action(s)

The President identified the individuals in the Annex to Executive Order of 13620 of July 20, 2012, “Taking Additional Steps to Address the National Emergency With Respect to Somalia,” 77 FR 43483, 3 CFR, 2013 Comp., p. 281 (E.O. 13620). On July 10, 2020, the Director of OFAC determined that circumstances no longer warrant the inclusion of the following individual on the SDN List under this authority. This individual is no longer subject to the blocking provisions of Section 1(a) of E.O. 13620.

Individual

1. GHEBREAB, Yemane (a.k.a. GEBRE AB, Yemane; a.k.a. GEBREAB, Yemane; a.k.a. YOHANNES, Yemane Ghebreab W.), 12 Keren Street, Asmara, Eritrea; Tegadelti Street, Asmara, Eritrea; DOB 21 Jul 1951; POB Asmara, Eritrea; Passport D000901 (Eritrea); alt. Passport D001082 (Eritrea) (individual) [SOMALIA].

Dated: July 10, 2020.
Andrea M. Gacki,
Director, Office of Foreign Assets Control, U.S. Department of the Treasury.

[FR Doc. 2020-17585 Filed 8-11-20; 8:45 am]

BILLING CODE 4810-AL-P